OFFICE OF SCIENCE AND TECHNOLOGY POLICY

President's Council of Advisors on Science and Technology; Notice of Meeting

ACTION: Public Notice.

SUMMARY: This notice sets forth the schedule and summary agenda for a meeting of the President's Council of Advisors on Science and Technology (PCAST), and describes the functions of the Council. Notice of this meeting is required under the Federal Advisory Committee Act (FACA).

DATES: August 6, 2009-August 7, 2009.

ADDRESSES: Washington, DC. On August 6, 2009, the meeting will be held in Room 100 of the Keck Center of the National Academies at 500 5th St., NW., Washington, DC. On August 7, 2009, the meeting will be held in the Truman Room of the White House Conference Center, 726 Jackson Place, Washington, DC.

Type of Meeting: Open and Closed. Further details on the meeting agenda will be posted on the PCAST Web site at: http://www.ostp.gov/cs/pcast.

Proposed Schedule and Agenda: The President's Council of Advisors on Science and Technology (PCAST) is scheduled to meet in open session on August 6, 2009 from 10 a.m.-12 p.m., when they will break for lunch. They will resume meeting in open session from 2 p.m.-6 p.m. On August 7, 2009, PCAST will meet in open session from 10 a.m.-12 p.m., when they will break for lunch. They will resume meeting in open session from 2 p.m.-5 p.m. During these open meetings, PCAST is tentatively scheduled to hear presentations from representatives of the Office of Science and Technology Policy, the Department of Energy, the Environmental Protection Agency, the Department of Health and Human Services, including a panel of speakers on health information technology and comparative effectiveness research. In addition, PCAST will discuss possible studies it may conduct. Additional information and the agenda will be posted at the PCAST Web site at: http://www.ostp.gov/cs/pcast.

PCAST will conduct administrative work on August 6, 2009 from 8 a.m.-10 a.m. This administrative work session is closed to the public under 41 CFR 102-3.40(b). Additionally, PCAST will have a closed meeting of approximately 1 hour with the President, which must take place in the Oval Office or the Roosevelt Room of the White House for the President's scheduling convenience and to maintain Secret Service protection. This meeting will be closed to the public because such portion of the meeting is likely to disclose matters that are to be kept secret in the interest of national defense or foreign policy under 5 U.S.C. 552b(c)(1). The precise time of this meeting has not yet been determined but will take place on August 7, 2009.

Public Comments: There will be time allocated for the public to comment on the above agenda items in afternoon of August 6, 2009. This public comment period is designed for substantive commentary on PCAST's work topics, not for business marketing purposes.

Members of the public wishing to reserve speaking time must contact Dr. Deborah D. Stine, PCAST Executive Director, at dstine@ostp.eop.gov, (202) 456-6006, or fax your request/comments to (202) 456-6021, at least five (5) business days in advance of the meeting. To accommodate as many speakers as possible, the time for public comments will be limited to no more than five (5) minutes per person, with a total public comment period of 30 minutes. Requests for public comment will be honored on a first-come, first-serve basis. Speakers are asked to bring extra copies of their comments and/or presentation for distribution to PCAST at the meeting.

Written comments are also welcome at any time before or following the meeting. Written comments received at least five (5) business days prior to the meeting will be made available to the members before their meeting. Written comments received after that point may not be reviewed by the members until after the meeting takes place.

Please note that because PCAST operates under FACA, all public comments and/or presentations will be treated as public documents and will be made available for public inspection, including being posted on the PCAST Web site.

FOR FURTHER INFORMATION CONTACT: Information regarding agenda, time, and location will be made available on the PCAST Web site at: http://www.ostp.gov/cs/pcast. Questions about the meeting should be directed to Dr. Deborah D. Stine, PCAST Executive Director, at dstine@ostp.eop.gov, (202) 456-6006, or fax your request/comments to (202) 456-6021 prior to 3 p.m. on Wednesday, August 5, 2009. Please note that public seating for this meeting is limited and is available on a first-come, first-served basis. In order to access the White House Conference Center, you must indicate your plan to attend the meeting by 3 p.m. on August 5, 2009.

SUPPLEMENTARY INFORMATION: The President's Council of Advisors on Science and Technology was established by Executive Order 13226 on September 30, 2001. The President's Council of Advisors on Science and Technology (PCAST) is an advisory group of the nation's leading scientists and engineers who directly advise the President and the Executive Office of the President. PCAST makes policy recommendations in the many areas where understanding of science, technology, and innovation is key to strengthening our economy and forming policy that works for the American people. PCAST is administered by the Office of Science and Technology Policy (OSTP). PCAST is co-chaired by Dr. John Holdren, Assistant to the President for Science and Technology, and Director of the Office of Science and Technology Policy; Dr. Harold Varmus, President, Memorial Sloan-Kettering Cancer Center; and Dr. Eric Lander, Founding Director, Broad Institute.

Meeting Accommodations: Individuals requiring special accommodation to access the public meetings listed above should contact Dr. Stine at least five business days prior to the meeting so that appropriate arrangements can be made.

Exceptional Circumstances Justifying 14-Day Notice: This notice is being published in the Federal Register 14 calendar days prior to the meeting, rather than 15 days prior, due to exceptional circumstances. It took longer than anticipated to find an available and accessible meeting location near the White House which could provide the enhanced webcasting services necessary to keep the meeting open and transparent to the public.

Deborah D. Stine,
Executive Director, President's Council of Advisors on Science and Technology Policy.

[FR Doc. E9-17905 Filed 7-23-09; 1:00 pm]

BILLING CODE 3170-W9-P